POSTAL SERVICE

Product Change—Priority Mail Express, Priority Mail, and USPS Ground Advantage Negotiated Service Agreements; Priority Mail, and USPS Ground Advantage Negotiated Service Agreements; Priority Mail Negotiated Service Agreements; USPS Ground Advantage Negotiated Service Agreements

AGENCY: Postal Service.

ACTION: Notice.

SUMMARY: The Postal Service gives notice of filing a request with the Postal Regulatory Commission to add a domestic shipping services contract to the list of Negotiated Service Agreements in the Mail Classification Schedule's Competitive Products List.

DATES: Date of required notice: May 30, 2025.

FOR FURTHER INFORMATION CONTACT: Sean C. Robinson, 202-268-8405.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
5/16/2025 | PM-GA 753 | MC2025-1402 | K2025-1401.
5/16/2025 | PM 819 | MC2025-1403 | K2025-1402.
5/16/2025 | PM 820 | MC2025-1404 | K2025-1403.
5/16/2025 | PM 821 | MC2025-1405 | K2025-1404.
5/16/2025 | PM 822 | MC2025-1406 | K2025-1405.
5/16/2025 | PM 823 | MC2025-1407 | K2025-1406.
5/16/2025 | PM-GA 754 | MC2025-1408 | K2025-1407.
5/19/2025 | PM-GA 755 | MC2025-1409 | K2025-1408.
5/19/2025 | PM-GA 756 | MC2025-1410 | K2025-1409.
5/19/2025 | PM 824 | MC2025-1411 | K2025-1410.
5/19/2025 | PM 825 | MC2025-1412 | K2025-1411.
5/19/2025 | GA 14 | MC2025-1413 | K2025-1412.
5/20/2025 | PME-PM-GA 1369 | MC2025-1414 | K2025-1413.
5/20/2025 | PM 826 | MC2025-1415 | K2025-1414.
5/20/2025 | PM 827 | MC2025-1416 | K2025-1415.
5/20/2025 | PM 828 | MC2025-1417 | K2025-1416.
5/20/2025 | PM-GA 757 | MC2025-1418 | K2025-1417.
5/20/2025 | PM-GA 758 | MC2025-1419 | K2025-1418.
5/20/2025 | PM-GA 759 | MC2025-1420 | K2025-1419.
5/20/2025 | PM-GA 760 | MC2025-1421 | K2025-1420.
5/20/2025 | PM 829 | MC2025-1422 | K2025-1421.
5/20/2025 | PM 830 | MC2025-1423 | K2025-1422.
5/20/2025 | PM-GA 761 | MC2025-1424 | K2025-1423.
5/20/2025 | PM 831 | MC2025-1425 | K2025-1424.
5/20/2025 | PM 832 | MC2025-1426 | K2025-1425.
5/20/2025 | PME-PM-GA 1370 | MC2025-1427 | K2025-1426.
5/20/2025 | PM-GA 762 | MC2025-1428 | K2025-1427.
5/21/2025 | PM-GA 763 | MC2025-1429 | K2025-1428.
5/21/2025 | PM 833 | MC2025-1430 | K2025-1429.
5/21/2025 | PM 834 | MC2025-1431 | K2025-1430.
5/21/2025 | PM 835 | MC2025-1432 | K2025-1431.
5/21/2025 | PM-GA 764 | MC2025-1433 | K2025-1432.
5/21/2025 | PM-GA 765 | MC2025-1434 | K2025-1433.
5/21/2025 | PME-PM-GA 1371 | MC2025-1435 | K2025-1434.
5/21/2025 | PM 836 | MC2025-1436 | K2025-1435.
5/21/2025 | PM 837 | MC2025-1437 | K2025-1436.
5/21/2025 | PM 838 | MC2025-1438 | K2025-1437.
5/22/2025 | PM 839 | MC2025-1440 | K2025-1439.
5/22/2025 | PM 840 | MC2025-1441 | K2025-1440.
5/22/2025 | PM-GA 766 | MC2024-1442 | K2025-1441.
5/22/2025 | PM 841 | MC2024-1443 | K2025-1442.
5/23/2025 | PM 843 | MC2024-1445 | K2025-1444.
5/23/2025 | PME-PM-GA 1372 | MC2024-1446 | K2025-1445.

Documents are available at www.prc.gov.

Sean C. Robinson,
Attorney, Corporate and Postal Business Law.

[FR Doc. 2025-09767 Filed 5-29-25; 8:45 am]

BILLING CODE 7710-12-P